GENERAL SERVICES ADMINISTRATION

Submission for OMB Review; Comment Request Child Care Subsidy Application—Provider

AGENCY: Office of Child Care, GSA.

ACTION: Notice of request for approval for a new information collection entitled Child Care Subsidy Application—Provider.

SUMMARY: The General Services Administration has submitted an emergency processing information collection to the Office of Management and Budget pursuant to the Paperwork Reduction Act of 1995 (44 U.S.C. chapter 35). OMB approval has been requested by May 3, 2000. The proposed information collection activity is for the approval of the form for implementation of the GSA Child Care Subsidy for lower income Federal employees. The OPM Rule was published March 14, 2000. The form would be used to verify the fees paid by Federal employees to licensed child care providers so that providers could be paid a portion of those fees by GSA. The Rule requires funds to subsidize lower income employees' child care rate be paid to child care providers rather than employees. The form will also request banking information so those child care providers can be paid via electronic funds transfer.

DATES: Submit comments on or before May 3, 2000.

ADDRESSES: Comments regarding this burden estimate or any other aspect of this collection of information, including suggestions for reducing this burden, should be submitted to: Marjorie Ashby, General Service Administration, (MVP) 1800 F Street, NW, Washington, DC 20405.

FOR FURTHER INFORMATION CONTACT: Bonnie Storm, Office of Child Care, GSA, 202-208-5119.

SUPPLEMENTARY INFORMATION: A. Purpose: The purpose of this Notice is to consult with and solicit comments from the public concerning the proposed collection of information regarding GSA child care subsidy for lower income GSA employees.

B. Annual Reporting Burden Respondents: 500, annual responses; 500; average hours per response: .15; bruden hours: 125.

Copy of Proposal

A copy of this proposal may be obtained from Office of Child Care, Room 6118, GSA Building, 1800 F Street, NW, Washington, DC 20405, or calling (202) 208-5119.

Sue McIver,
Acting Deputy Associate Administrator for Acquisition Policy.

[FR Doc. 00-10488 Filed 4-26-00; 8:45 am]

BILLING CODE 6820-61-M